OFFICE OF PERSONNEL MANAGEMENT

Department of Agriculture; Alternative Personnel System; Demonstration Project

AGENCY: Office of Personnel Management (OPM).

ACTION: Notice of amendment of the Department of Agriculture demonstration project plan.

SUMMARY: The Department of Agriculture, with the approval of OPM, is requesting to modify its demonstration project coverage. This action provides for changes in the final project plan published March 9, 1990, to include temporary appointments along with its current coverage of permanent and term appointments. By amending the project plan to include temporary appointments, the need to have two separate examining systems will be eliminated, thus avoiding administrative inefficiencies and ineffectiveness as well as meeting the President's Management Agenda of being more citizen-centered by reducing confusion among applicants.

EFFECTIVE DATE: This modification is effective upon publication of this notice.

FOR FURTHER INFORMATION CONTACT: Agriculture: Mary Ann Jenkins, Department of Agriculture, 14th and Independence Avenue, SW., Washington, DC 20250, (202-720-0515); OPM: Rhonda L. Taylor, Office of Personnel Management, 1900 E Street, NW., Washington, DC 20415, (202) 606-1526.

SUPPLEMENTARY INFORMATION:

Background

On March 9, 1990, the Office of Personnel Management published a notice to demonstrate an alternative personnel management system at the Department of Agriculture. The project was originally conceived to test an alternative to the traditional recruiting and hiring system in an anticipated tight labor market. On March 8, 1996, a Federal Register notice was published to modify the list of experimental sites to include comparison sites. On September 18, 1996, a Federal Register notice was published to expand the demonstration project coverage to include term appointments. On October 21, 1998, the Department of Agriculture demonstration project was made permanent through Public Law 105-277. The proposed modification will not be a part of the permanent demonstration project authority, since it was not part of the demonstration project that Congress continued indefinitely. Rather this modification adheres to the regulations under 5 CFR part 470 and will have a time limit of 5 years.

One of the project innovations is to test a candidate assessment method which uses categorical groupings instead of numeric scores. The demonstration authority replaces the traditional system of examining applicants and ranking candidates. Instead, the candidates will be assigned to one of two groups—quality or eligible—based on job-related evaluation criteria. To be placed in the quality group, a candidate's background must show: Above average educational achievement; or, quality experience which is defined as experience clearly above and beyond the qualification standard requirements, and which is directly related to the work of the position to be filled; or, evidence of having ability to do the work of the position. Candidates who do not meet the quality group criteria but who meet basic qualification requirements will be assigned to the eligible group. Within each group, preference eligibles will be listed ahead of nonpreference eligibles. In addition, for positions other than scientific and professional at GS-9 and above, preference eligibles with a compensable service-connected disability of 10 percent or more who meet basic eligibility requirements will be listed at the top of the quality group.

Selection will be made from among candidates in the quality group. When there is an inadequate number of candidates in the quality group all qualified candidates will be listed as a single group.

Office of Personnel Management.
Kay Coles James,
Director.

Project Plan Modification

This project plan which appeared in the Federal Register on March 9, 1990 (55 FR 9062) is hereby modified to include using the candidate assessment method for temporary appointments for the Agricultural Research Service and Forest Service.

[FR Doc. 02-29929 Filed 11-25-02; 8:45 am]

BILLING CODE 6325-43-P